DEPARTMENT OF THE INTERIOR

Fish and Wildlife Service

Sporting Conservation Council

AGENCY: Fish and Wildlife Service, Interior.

ACTION: Notice of meeting.

SUMMARY: We announce a meeting of the Sporting Conservation Council (Council). The meeting agenda includes outcomes of the October 1-3, 2008, White House Conference on North American Wildlife Policy, at which the culmination of the 10-year Conservation Plan agenda Executive Order (E.O.) 13443 calls for, along with other E.O. issues, will have been covered. This Council meeting is open to the public, and will include a session for the public to comment.

DATES: We will hold the meeting on October 3, 2008, from 1:30 p.m. to 4 p.m.; the public comment session will be from 2 to 2:30 p.m.

ADDRESSES: The meeting will be held in Ballroom 5 at the Reno Ballroom at 401 North Center Street, Reno, NV 89501.

FOR FURTHER INFORMATION CONTACT: Phyllis T. Seitts, 9828 North 31st Avenue, Phoenix, AZ 85051-2517; 602-906-5603 (phone); or Twinkle_Thompson-Seitts@blm.gov (e-mail).

SUPPLEMENTARY INFORMATION: The Secretary of the Interior established the Council in February 2006 (71 FR 11220, March 6, 2006). The Council's mission is to provide advice and guidance to the Federal Government through the Department of the Interior on how to increase public awareness of: (1) The importance of wildlife resources, (2) the social and economic benefits of recreational hunting, and (3) wildlife conservation efforts that benefit recreational hunting and wildlife resources.

The Secretary of the Interior and the Secretary of Agriculture signed an amended charter for the Council in June 2006 and July 2006, respectively. The revised charter states that the Council will provide advice and guidance to the Federal Government through the Department of the Interior and the Department of Agriculture.

The Council will hold a meeting on the date shown in the DATES section at the address shown in the ADDRESSES section. The meeting will include a session for the public to comment. Previous Council meetings this year occurred on April 8 in Denver, CO (73 FR 14997, March 20, 2008), on June 17 in Washington, DC (73 FR 31501, June 2, 2008) and on September 17 in Washington, DC (73 FR 51645, September 4, 2008).

Dated: September 12, 2008.
Phyllis T. Seitts,
Designated Federal Officer, Sporting Conservation Council.

[FR Doc. E8-21793 Filed 9-17-08; 8:45 am]

BILLING CODE 4310-55-P